DEPARTMENT OF HEALTH AND HUMAN SERVICES

Health Resources and Services Administration

Meeting of the National Advisory Council on the National Health Service Corps

AGENCY: Health Resources and Services Administration (HRSA), Department of Health and Human Services (HHS).

ACTION: Notice; correction.

SUMMARY: The National Advisory Council on the National Health Service Corps (NACNHSC) meeting scheduled for Thursday, November 5, 2020, and Friday, November 6, 2020, has changed its format, date, and time. The meeting will now be a one-day webinar and conference call held only on Thursday, November 5, 2020, from 9:00 a.m.-5:00 p.m. Eastern Time. The webinar link, conference dial-in number, meeting materials, and updates will be available on the NACNHSC website at: https://nhsc.hrsa.gov/nac/meetings.html.

FOR FURTHER INFORMATION CONTACT: Diane Fabiyi-King Designated Federal Official, Division of National Health Service Corps, HRSA. Address: 5600 Fishers Lane, Rockville, Maryland 20857; phone (301) 443-3609; or NHSCAdvisoryCouncil@hrsa.gov.

SUPPLEMENTARY INFORMATION:

Correction

In the Federal Register of December 19, 2019, in FR Doc. 2019-27357, in the second column, correct the Dates caption to read:

This meeting will be a one-day webinar and conference call held on Thursday, November 5, 2020, from 9:00 a.m.-5:00 p.m. Eastern Time.

Maria G. Button,
Director, Executive Secretariat.

[FR Doc. 2020-21164 Filed 9-25-20; 8:45 am]

BILLING CODE 4165-15-P